DEPARTMENT OF THE INTERIOR

National Park Service

[NPS-WASO-NRNHL-13269; PPWOCRADI0, PCU00RP14.R50000]

National Register of Historic Places; Notification of Pending Nominations and Related Actions

Nominations for the following properties being considered for listing or related actions in the National Register were received by the National Park Service before June 1, 2013. Pursuant to Section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by July 3, 2013. Before including your address, phone number, email address, or other personal identifying information in your comment, you should be aware that your entire comment—including your personal identifying information—may be made publicly available at any time. While you can ask us in your comment to withhold your personal identifying information from public review, we cannot guarantee that we will be able to do so.

Dated: June 6, 2013.
Alexandra Lord,
Acting Chief, National Register of Historic Places/National Historic Landmarks Program.

FLORIDA

Duval County

Durkee, Joseph H., Athletic Field, 1701 Myrtle Ave., Jacksonville, 13000484

IOWA

Woodbury County

United States Post Office and Courthouse, 316-320 6th St., Sioux City, 13000485

KANSAS

Douglas County

Trail Park and Trail Park DAR Marker, (Santa Fe Trail MPS) NW. corner of E 1700 & N 400 Rds., Baldwin City, 13000486

Finney County

Finney County Point of Rocks, (Santa Fe Trail MPS) Mansfield Rd., Pierceville, 13000487

Ford County

Santa Fe Trail—Ford County Segment 2, (Santa Fe Trail MPS) SW. corner of Ridge & 129th Rds., Ford, 13000488

Sawlog Creek Crossing on the Fort Hayes—Fort Dodge Road, (Santa Fe Trail MPS) Address Restricted, Spearville, 13000489

Grant County

Santa Fe Trail—Grant County Segment 1, (Santa Fe Trail MPS) Address Restricted, Ulysses, 13000490

Kearny County

Indian Mound, (Santa Fe Trail MPS) N. side of N. River Rd., Lakin, 13000491

Santa Fe Trail—Kearny County Segment 1, (Santa Fe Trail MPS) N. side of US 50, Deerfield, 13000492

Pawnee County

Coon Creek Crossing on the Santa Fe Trail (Wet Route), (Santa Fe Trail MPS) US 56, Garfield, 13000493

Pawnee Fork Crossing (Santa Fe Trail Dry Route) and Boyd's Ranch Site, (Santa Fe Trail MPS) Address Restricted, Larned, 13000494

Rice County

Santa Fe Trail—Rice County Segment 1 (Boundary Increase), (Santa Fe Trail MPS) Jct. 4th Rd. & Ave. L, Chase, 13000495

MONTANA

Chouteau County

Square Butte School, S. Main St., Square Butte, 13000496

NEW JERSEY

Hunterdon County

Sand Brook Historic District, Cty. Rd. 523, Sand Brook-Headquarters & Britton Rds., Sand Brook, 13000497

Salem County

Marshalltown Historic District, Marshalltown Rd. & Roosevelt Ave. (Mannington Township), Pennsville, 13000498

NEW YORK

Westchester County

Dale Cemetery, 104 Havell St., Ossining, 13000500

OHIO

Lucas County

United States Courthouse and Custom House, 1716 Spielbusch Ave., Toledo, 13000501

TENNESSEE

Shelby County

Memphis Bank and Trust Building, 44 N. 2nd St., Memphis, 13000502

South Main Street Historic District (Boundary Increase), 124-125, 136-137, 148, 153, 154, 158 & 161 G.E. Patterson Ave, 138 St. Paul Ave., Memphis, 13000503

TEXAS

Hays County

Dripping Springs Downtown Historic District, 100-500 blk. Mercer, 100 blk. Wallace, 100 blk. San Marcos & 101 College Sts., 101-103 Old Fitzhugh Rd., Dripping Springs, 13000504

WASHINGTON

Chelan County

Leavenworth Ski Hill Historic District, Jct. of Ski Hill Dr. & Titus Rd., Leavenworth, 13000505

Jefferson County

Interrorem Guard Station—Olympic National Forest, Duckabush Rd., Duckabush, 13000506

Pierce County

Wilkeson Community House, 540 Church St., Wilkeson, 13000507

In the interest of preservation the comment period has been shortened to three days for the following property:

NEW YORK

Queens County

Far Rockaway Beach Bungalow Historic District, Beach 24th, Beach 25th & Beach 26th Sts., Queens, 13000499

A request for removal has been made for the following properties:

CALIFORNIA

Santa Clara County

Donner—Houghton House, 156 E. St. John, San Jose, 01001483

NEW JERSEY

Cumberland County

Levoy Theatre, 126-130 N. High St., Millville City, 98001064

TENNESSEE

Meigs County

Culvahouse House, River Rd., Ten Mile, 82004017

Sullivan County

Spring Place, NW. of Kingsport on W. Carter's Valley Rd., off US 23, Kingsport, 73001848

[FR Doc. 2013-14375 Filed 6-17-13; 8:45 am]

BILLING CODE 4312-51-P